DEPARTMENT OF ENERGY

Federal Energy Regulatory Commission

[Docket No. PL04-3-000]

Natural Gas Interchangeability; Agenda for February 18, 2004, Public Conference

February 6, 2004.

1. On January 15, the Commission issued a notice announcing its intention to conduct a public conference on natural gas interchangeability and gas quality issues. The notice indicated that the Public Conference would be held on February 18, 2004, and that the Commission would issue a conference agenda at a future time. Accordingly, the following is the agenda as it now stands:

9:30 a.m. Opening Remarks, Conference Guidelines

Focus: Legal context for Commission action, to date and going forward; technical background underlying the need for the conference; ex parte considerations, and what may not be discussed; and, procedures for “open mike” discussion.

9:45-10:15 Natural Gas Council Presentation

Focus: Status of gas industry efforts to develop a statement of principles on the issue of natural gas quality standards.

10:15-11:45 Panel I: Technical Perspectives on Gas Interchangeability and Quality: “Gas Quality and Interchangeability 101”

Focus: Technical and scientific background: Reliability; equipment; pipeline tariff and contract conditions; gas processing; LNG distinctives; and, geographic variations in gas quality.

• Jeryl L. Mohn, Sr. Vice President, Operations and Engineering, Panhandle Energy;

• David Rue, Manager, Industrial Combustion Processes, Gas Technology Institute;

• Lori Traweek, Senior Vice President, Operations and Engineering Management, American Gas Association;

• Bob Dimitroff, Topsides Design Manager, Regasification Projects, International Gas, ChevronTexaco Overseas Petroleum;

• Joel D. Moxley, Vice President, Processing and NGL Group, El Paso Field Services.

11:45-1:15 Panel II: Addressing Gas Interchangeability and Quality Concerns

Focus: Standardization efforts (historical and current); tariff differences; economic incentives; new electric generation needs; cost shifting and cost causation.

• Randy Barnard, V.P. of Operations and Gas Control, Williams Gas Pipelines;

• Adrian P. Chapman, Vice President of Regulatory Affairs and Energy Acquisition, Washington Gas Light Company;

• Keith C. Wilson, PE, Ammonia Technology Manager, PCS Nitrogen Fertilizer, LP;

• W. Collin Harper, Senior Vice President, Fuels, Tractebel North America;

• Richard Brent, Director of Government Affairs, Solar Turbines Incorporated;

• Keith Barnett, Vice President, Fundamental Analysis, American Electric Power;

• Robert Wilson, Director, Environmental Engineering and Operations, KeySpan;

• Alfred Fatica, Director NGL Assets, BP America Inc.

1:15-2:15 Break for Lunch

2:15-3:45 Panel III: Next steps * * *

Focus: What are the possible approaches the Commission, the North American Energy Standards Board, other standards-setting organizations, the industry, and commercial partners might take on natural gas interchangeability and natural gas quality? Is there a need for nation-wide standards, and if there is a need, which organizations need to take responsibility to craft such standards?

• Rae McQuade, Executive Director, North American Energy Standards Board (NAESB);

• Douglas A. Moser, Vice President, Gas Management, Philadelphia Gas Works;

• Lee Stewart, Senior Vice President, Gas Transmission, Southern California Gas;

• Terry D. Boss, Senior Vice President, Regulatory Affairs—Safety and Environment, Interstate Natural Gas Association of America;

• John Hritcko, Jr., Vice President Strategy and Development, Shell U.S. Gas and Power;

• William (“Bill”) G. Cope, Vice President, Southern LNG Inc.

• James R. Newman, Senior Engineering Designer, Rheem Air Conditioning Division.

3:45-4:45 “Open Mike” Opportunity

4:45-5:00 Closing Remarks

The foregoing agenda may be subject to change.

Magalie R. Salas,
Secretary.

[FR Doc. E4-267 Filed 2-12-04; 8:45 am]

BILLING CODE 6717-01-P